DEPARTMENT OF TRANSPORTATION

Federal Aviation Administration

14 CFR Part 39

[Docket No. FAA-2016-9160; Directorate Identifier 2016-CE-022-AD; Amendment 39-18767; AD 2016-26-09]

RIN 2120-AA64

Airworthiness Directives; B-N Group Ltd. Airplanes

AGENCY: Federal Aviation Administration (FAA), Department of Transportation (DOT).

ACTION: Final rule.

SUMMARY: We are superseding an airworthiness directive (AD) 2016-06-01 for B-N Group Ltd. Models BN-2, BN-2A, BN-2A-2, BN-2A-3, BN-2A-6, BN-2A-8, BN-2A-9, BN-2A-20, BN-2A-21, BN-2A-26, BN-2A-27, BN-2B-20, BN-2B-21, BN-2B-26, BN-2B-27, BN-2T-4R, BN-2T, BN2A MK. III, BN2A MK. III-2, and BN2A MK. III-3 (all models on Type Certificate Data Sheets A17EU and A29EU) airplanes. This AD results from mandatory continuing airworthiness information (MCAI) originated by an aviation authority of another country to identify and correct an unsafe condition on an aviation product. The MCAI describes the unsafe condition as cracks in the inner shell of certain pitot/static pressure heads. This AD changes model applicability due to errors found in AD 2016-06-01. We are issuing this AD to require actions to address the unsafe condition on these products.

DATES: This AD is effective February 9, 2017.

The Director of the Federal Register approved the incorporation by reference of a certain other publication listed in this AD as of April 19, 2016 (81 FR 13717; March 15, 2016).

ADDRESSES: You may examine the AD docket on the Internet at http://www.regulations.gov by searching for and locating Docket No. FAA-2016-9160; or in person at the Docket Management Facility, U.S. Department of Transportation, Docket Operations, M-30, West Building Ground Floor, Room W12-140, 1200 New Jersey Avenue SE., Washington, DC 20590.

For service information identified in this AD, contact Britten-Norman Aircraft Limited, Commodore House, Mountbatten Business Centre, Millbrook Road East, Southampton SO15 1HY, United Kingdom; telephone: +44 20 3371 4000; fax: +44 20 3371 4001; email: info@bnaircraft.com; Internet: http://www.britten-norman.com/customer-support/. You may view this referenced service information at the FAA, Small Airplane Directorate, 901 Locust, Kansas City, Missouri 64106. For information on the availability of this material at the FAA, call (816) 329-4148. It is also available on the Internet at http://www.regulations.gov by searching for Docket No. FAA-2016-9160.

FOR FURTHER INFORMATION CONTACT: Raymond Johnston, Aerospace Engineer, FAA, Small Airplane Directorate, 901 Locust, Room 301, Kansas City, Missouri 64106; telephone: (816) 329-4159; fax: (816) 329-3047; email: raymond.johnston@faa.gov.

SUPPLEMENTARY INFORMATION:

Discussion

We issued a notice of proposed rulemaking (NPRM) to amend 14 CFR part 39 by adding an AD that would apply to B-N Group Ltd. Models BN-2, BN-2A, BN-2A-2, BN-2A-3, BN-2A-6, BN-2A-8, BN-2A-9, BN-2A-20, BN-2A-21, BN-2A-26, BN-2A-27, BN-2B-20, BN-2B-21, BN-2B-26, BN-2B-27, BN-2T-4R, BN-2T, BN2A MK. III, BN2A MK. III-2, and BN2A MK. III-3 (all models on Type Certificate Data Sheets A17EU and A29EU) airplanes. That NPRM was published in the Federal Register on September 23, 2016 (81 FR 65581), and proposed to supersede AD 2016-06-01, Amendment 39-18432 (81 FR 13717; March 15, 2016).

Since we issued AD 2016-06-01, errors were discovered in the model applicability after issuance. This AD adds Models BN-2T and BN-2T-4R, removes nonexistent Model BN2B, and removes duplicate listings of BN2A and BN2A MK.III.

The NPRM proposed to correct an unsafe condition for the specified products and was based on mandatory continuing airworthiness information (MCAI) originated by an aviation authority of another country. The MCAI states that:

In 2005, occurrences were reported of finding cracks in the inner shell of certain pitot/static pressure heads, Part Number (P/N) DU130-24.

This condition, if not detected and corrected, could lead to incorrect readings on the pressure instrumentation, e.g. altimeters, vertical speed indicators (rate-of-climb) and airspeed indicators, possibly resulting in reduced control of the aeroplane.

To address this potential unsafe condition, B-N Group issued Service Bulletin (SB) 310 to provide inspection and test instructions. Consequently, CAA UK issued AD G-2005-0034 (EASA approval 2005-6447) to require repetitive inspections and leak tests and, depending on findings, accomplishment of applicable corrective action(s).

Subsequently, B-N Group published SB 310 issue 2, prompting EASA to issue AD 2006-0143 making reference to SB 310 at issue 2, while the publication of BNA SB 310 issue 3 prompted EASA AD 2006-0143R1, introducing BNA modification (mod) NB-M-1728 (new pitot/static pressure head not affected by the AD requirements) as optional terminating action for the repetitive inspections and leak tests.

Since that AD was issued, operators have reported a number of premature failures of the affected P/N DU130-24 pitot-static probes.

Prompted by these reports, BNA issued SB 310 issue 4 to reduce the interval for the inspections and leak tests.

The MCAI can be found in the AD docket on the Internet at: https://www.regulations.gov/document?D=FAA-2016-9160-0002.

Comments

We gave the public the opportunity to participate in developing this AD. We received no comments on the NPRM or on the determination of the cost to the public.

Conclusion

We reviewed the relevant data and determined that air safety and the public interest require adopting the AD as proposed except for minor editorial changes. We have determined that these minor changes:

• Are consistent with the intent that was proposed in the NPRM for correcting the unsafe condition; and

• Do not add any additional burden upon the public than was already proposed in the NPRM.

Related Service Information

We reviewed B-N Group Ltd. Britten-Norman Service Bulletin Number SB 310, Issue 4, dated September 25, 2015. The service information describes procedures for inspections, and if necessary, replacement of the pitot/static pressure head. This service information is reasonably available because the interested parties have access to it through their normal course of business or by the means identified in the ADDRESSES section of the AD.

Costs of Compliance

We estimate that this AD will affect 93 products of U.S. registry. We also estimate that it would take about 1 work-hour per product to comply with the basic requirements of this AD. The average labor rate is $85 per work-hour.

Based on these figures, we estimate the cost of this AD on U.S. operators to be $7,905, or $85 per product.

In addition, we estimate that any necessary follow-on actions would take about 2 work-hours and require parts costing $10,000, for a cost of $10,170 per product. We have no way of determining the number of products that may need these actions.

The cost impact of this AD is the same as that presented in AD 2016-06-01.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2016-9160; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-18432 (81 FR 13717; March 15, 2016) and adding the following new AD:

2016-26-09 B-N Group Ltd.: Amendment 39-18767; Docket No. FAA-2016-9160; Directorate Identifier 2016-CE-022-AD.

(a) Effective Date

This airworthiness directive (AD) becomes effective February 9, 2017.

(b) Affected ADs

This AD supersedes AD 2016-06-01, Amendment 39-18432 (81 FR 13717; March 15, 2016) (“AD 2016-06-01”).

(c) Applicability

This AD applies to B-N Group Ltd. Models BN-2, BN-2A, BN-2A-2, BN-2A-3, BN-2A-6, BN-2A-8, BN-2A-9, BN-2A-20, BN-2A-21, BN-2A-26, BN-2A-27, BN-2B-20, BN-2B-21, BN-2B-26, BN-2B-27, BN-2T-4R, BN-2T, BN2A MK. III, BN2A MK. III-2, and BN2A MK. III-3 (all models on Type Certificate Data Sheets A17EU and A29EU) airplanes, all serial numbers, certificated in any category.

(d) Subject

Air Transport Association of America (ATA) Code 34: Navigation.

(e) Reason

This AD was prompted by mandatory continuing airworthiness information (MCAI) issued by an aviation authority of another country to identify and correct an unsafe condition on an aviation product. The MCAI describes the unsafe condition as cracks in the inner shell of certain pitot/static pressure heads, which could cause incorrect readings on the pressure instrumentation, possibly resulting in reduced control of the airplane. We are issuing this AD to change the model applicability due to errors found in AD 2016-06-01.

(f) Actions and Compliance

Unless already done, do the following actions in paragraphs (f)(1) through (5) of this AD:

(1) For all airplanes that are equipped with pitot/static pressure head part number (P/N) DU130-24, except Models BN-2T and BN-2T-4R: Within 50 hours time-in-service (TIS) after April 19, 2016 (the effective date retained from AD 2016-06-01) and repetitively thereafter at intervals not to exceed 50 hours TIS, inspect the pitot/static pressure head for cracks and/or separation and perform a leak test following the procedures in the action section of Britten-Norman Service Bulletin SB 310, Issue 4, dated September 25, 2015.

(2) For Models BN-2T and BN-2T-4R that are equipped with pitot/static pressure head part number (P/N) DU130-24: Within 50 hours TIS after February 9, 2017 (the effective date of this AD) and repetitively thereafter at intervals not to exceed 50 hours TIS, inspect the pitot/static pressure head for cracks and/or separation and perform a leak test following the procedures in the action section of Britten-Norman Service Bulletin SB 310, Issue 4, dated September 25, 2015.

(3) For all airplanes equipped with pitot/static pressure head part number (P/N) DU130-24: If any discrepancies are found during an inspection or test required in paragraph (f)(1) or (2) of this AD, before further flight, replace the pitot/static pressure head with an airworthy part.

(4) For all airplanes equipped with pitot/static pressure head part number (P/N) DU130-24: Corrections performed on airplanes as required in paragraph (f)(3) of this AD do not constitute terminating action for the repetitive actions required in paragraph (f)(1) or (2) of this AD.

(5) For all airplanes not equipped with a pitot/static pressure head P/N DU130-24 on February 9, 2017 (the effective date of this AD): After April 19, 2016 (the effective date retained from AD 2016-06-01), do not install a pitot/static pressure head P/N DU130-24.

(g) Other FAA AD Provisions

The following provisions also apply to this AD:

(1) Alternative Methods of Compliance (AMOCs): The Manager, Standards Office, FAA, has the authority to approve AMOCs for this AD, if requested using the procedures found in 14 CFR 39.19. Send information to ATTN: Raymond Johnston, Aerospace Engineer, FAA, Small Airplane Directorate, 901 Locust, Room 301, Kansas City, Missouri 64106; telephone: (816) 329-4159; fax: (816) 329-3047; email: raymond.johnston@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2015-0184, dated September 1, 2015; for related information. You may examine the MCAI in the AD docket on the Internet at: https://www.regulations.gov/document?D=FAA-2016-9160-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on April 19, 2016.

(i) Britten-Norman Service Bulletin SB 310, Issue 4, dated September 25, 2015.

(ii) Reserved.

(4) For Britten-Norman Aircraft Limited service information identified in this AD, contact Britten-Norman Aircraft Limited, Commodore House, Mountbatten Business Centre, Millbrook Road East, Southampton SO15 1HY, United Kingdom; telephone: +44 20 3371 4000; fax: +44 20 3371 4001; email: info@bnaircraft.com; Internet: http://www.britten-norman.com/customer-support/.

(5) You may view this service information at the FAA, Small Airplane Directorate, 901 Locust, Kansas City, Missouri 64106. For information on the availability of this material at the FAA, call (816) 329-4148. In addition, you can access this service information on the Internet at http://www.regulations.gov by searching for and locating Docket No. FAA-2016-9160.

(6) You may view this service information that is incorporated by reference at the National Archives and Records Administration (NARA). For information on the availability of this material at NARA, call 202-741-6030, or go to: http://www.archives.gov/federal-register/cfr/ibr-locations.html.

Issued in Kansas City, Missouri, on December 22, 2016.
Pat Mullen,
Acting Manager, Small Airplane Directorate, Aircraft Certification Service.

[FR Doc. 2016-31699 Filed 1-4-17; 8:45 am]

BILLING CODE 4910-13-P